DEPARTMENT OF ENERGY

Federal Energy Regulatory Commission

[Project No. 2609-013-NY]

Curtis/Palmer Hydroelectric Company LP, International Paper Company; Notice of Availability of Final Environmental Assessment

February 25, 2000.

In accordance with the National Environmental Policy Act of 1969 and the Federal Energy Regulatory Commission's (Commission) regulations, 18 CFR Part 380 (Order No. 486, 52 F.R. 47897), the Office of Hydropower Licensing has reviewed the application for a new license for the existing Curtis/Palmer Falls Hydroelectric Project, located in Warren and Saratoga Counties, New York, and has prepared a Final Environmental Assessment (FEA) for the project. In the FEA, the Commission's staff has analyzed the potential environmental impacts of the existing project and has concluded that approval of the project, with appropriate environmental measures, would not constitute a major federal action significantly affecting the quality of the human environment.

Copies of the FEA are available for review at the Commission's Public Reference Room, located at 888 First Street, NE, Washington, DC 20426, or by calling (202) 208-1371. The FEA may be viewed on the web at http://www.ferc.fed.us/online/rims.htm (call (202) 208-2222 for assistance).

David P. Boergers,
Secretary.

[FR Doc. 00-4991 Filed 3-1-00; 8:45 am]

BILLING CODE 6717-01-M